DEPARTMENT OF ENERGY

Federal Energy Regulatory Commission

[Docket No. RP04-389-000]

East Tennessee Natural Gas, LLC; Notice of Tariff Filing

July 9, 2004.

Take notice that on July 1, 2004, East Tennessee Natural Gas, LLC (East Tennessee) tendered for filing as part of its FERC Gas Tariff, Third Revised Volume No. 1, the following revised tariff sheets to become effective August 1, 2004:

First Revised Sheet No. 20 and

First Revised Sheet No. 21

East Tennessee states that the purpose of this filing is to reduce the Gas Research Institute (GRI) surcharges to zero effective August 1, 2004 in compliance with the January 21, 1998, Stipulation and Agreement Concerning GRI Funding (Settlement) approved by the Commission in Gas Research Institute, 83 FERC ¶ 61,093 (1998), order on reh'g, 83 FERC ¶ 61,331 (1998).

East Tennessee states that by letter dated May 25, 2004, GRI notified its member companies that actual collections under the funding surcharges approved by the Commission are projected to reach the approved amounts provided for in the Settlement by August 1, 2004.

East Tennessee states that copies of the filing have been served upon all affected customers of East Tennessee and interested state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-1580 Filed 7-14-04; 8:45 am]

BILLING CODE 6717-01-P